ENVIRONMENTAL PROTECTION AGENCY

40 CFR Parts 86, 90, 1045, 1051, 1065, and 1068

[AMS-FRL-7373-2]

RIN 2060-AJ90

Control of Emissions from Spark-Ignition Marine Vessels and Highway Motorcycles; Correction

AGENCY: Environmental Protection Agency (EPA).

ACTION: Proposed rule; change of hearing date.

SUMMARY: The Environmental Protection Agency published in the Federal Register of August 14, 2002 a document concerning new emission standards for spark-ignition marine vessels and highway motorcycles. This notice changes the hearing date for issues relating to marine vessels and corrects the preamble to reflect the correct hearing dates.

DATES: We will hold a public hearing on September 17, 2002 starting at 9:30 a.m. EDT. This hearing will focus on issues related to highway motorcycles. In addition, we will hold a public hearing on October 7, 2002 starting at 11:00 a.m. EDT. This hearing will focus on issues related to marine vessels. If you want to testify, notify the contact person listed below at least ten days before the hearing.

ADDRESSES: We will hold a public hearing for issues related to highway motorcycles on September 17, 2002 at the Ypsilanti Marriott at Eagle Crest, Ypsilanti, Michigan (734-487-2000). We will hold a public hearing for issues related to marine vessels on October 7, 2002 at the National Vehicle and Fuel Emissions Laboratory, 2000 Traverwood Dr., Ann Arbor, Michigan (734-214-4334).

FOR FURTHER INFORMATION CONTACT: Margaret Borushko, U.S. EPA, National Vehicle and Fuel Emissions Laboratory, 2000 Traverwood, Ann Arbor, MI 48105; Telephone (734) 214-4334; e-mail: borushko.margaret@epa.gov.

SUPPLEMENTARY INFORMATION: EPA published a document in the Federal Register of August 14, 2002 (67 FR 53050). That document proposed new emission standards for spark-ignition marine vessels and highway motorcycles. In Section VII (page 53092, second column) the information about the public hearing on July 16, 2002 in Dulles, VA for issues related to highway motorcycles should state September 17, 2002 in Ypsilanti, MI. This is consistent with the information published in the original document under DATES. In the following sentence, the information about the public hearing on July 18, 2002 in Ann Arbor, MI for issues related to marine vessels should state October 7, 2002 in Ann Arbor, MI. This is consistent with the revised hearing date above under DATES.

Dated: August 30, 2002.
Robert Brenner,
Acting Assistant Administrator for Air and Radiation.

[FR Doc. 02-22811 Filed 9-6-02; 8:45 am]

BILLING CODE 6560-50-P